DEPARTMENT OF COMMERCE

National Oceanic and Atmospheric Administration

RIN 0648-XY39

Marine Mammals; File No. 15271

AGENCY: National Marine Fisheries Service (NMFS), National Oceanic and Atmospheric Administration (NOAA), Commerce.

ACTION: Notice; receipt of application.

SUMMARY: Notice is hereby given that James T. Harvey, Moss Landing Marine Laboratories, 8272 Moss Landing Road, Moss Landing, California 95039, has applied in due form for a permit to conduct research on blue (Balaenoptera musculus), fin (B. physalus), humpback (Megaptera novaeangliae), and gray (Eschrichtius robustus) whales.

DATES: Written, telefaxed, or e-mail comments must be received on or before September 30, 2010.

ADDRESSES: The application and related documents are available for review by selecting “Records Open for Public Comment” from the Features box on the Applications and Permits for Protected Species (APPS) home page, https://apps.nmfs.noaa.gov, and then selecting File No. 15271 from the list of available applications.

These documents are also available upon written request or by appointment in the following offices:

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018; and

Northwest Region, NMFS, 7600 Sand Point Way NE, BIN C15700, Bldg. 1, Seattle, WA 98115-0700; phone (206)526-6150; fax (206)526-6426.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Kristy Beard or Amy Hapeman, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a five-year permit to conduct research on large whale species off California, Oregon, and Washington; the primary research area would be off the Southern California Bight, San Luis Obispo, Monterey Bay, and San Francisco. The purposes of the research are to: (1) relate distribution and abundance of marine mammals with environmental factors; (2) determine diet and foraging behaviors as marine mammals exploit prey resources; (3) determine types of acoustic behavior of marine mammals (primarily cetaceans) and how acoustic signals are affected by anthropogenic factors; and (4) determine the movements of individuals or pods during migrations or within their home range. Each year, 50 blue whales would be approached for photo-identification (photo-ID) and biopsy, of which 30 would be suction-cup tagged, 10 would be dart-tagged, and 10 would be tagged with small implantable tags; 30 fin whales would be approached for photo-ID and biopsy, of which 10 would be suction-cup tagged, 5 would be dart-tagged, and 5 would be tagged with small implantable tags; 200 humpback whales would be approached for photo-ID and biopsy, of which 30 would be suction-cup tagged, 10 would be dart-tagged, and 10 would be tagged with small implantable tags; 100 gray whales would be approached for photo-ID and biopsy, of which 40 would be suction-cup tagged, 10 would be dart-tagged, and 10 would be tagged with small implantable tags. Tagged individuals would be observed and photographed (e.g., daily for the first week and every week or so for the next two months). Up to 200 California sea lions (Zalophus californianus), 20 harbor seals (Phoca vitulina richardii), 50 Pacific white-sided dolphins (Lagenorhynchus obliquidens), 20 Northern right whale dolphins (Lissodelphis borealis), 10 harbor porpoise (Phocoena phocoena) and 20 short-beaked common dolphins (Delphinus delphis) would be harassed incidental to research activities.

In compliance with the National Environmental Policy Act of 1969 (42 U.S.C. 4321 et seq.), a draft environmental assessment (EA) has been prepared to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Dated: August 25, 2010.
P. Michael Payne,
Chief, Permits, Conservation and Education Division, Office of Protected Resources, National Marine Fisheries Service.

[FR Doc. 2010-21715 Filed 8-30-10; 8:45 am]

BILLING CODE 3510-22-S